DEPARTMENT OF HEALTH AND HUMAN SERVICES

National Institutes of Health

National Institute of General Medical Sciences; Amended Notice of Meeting

Notice is hereby given of a change in the meeting of the National Advisory General Medical Sciences Council, January 27, 2011, 8:30 a.m. to January 28, 2011, 5 p.m., National Institutes of Health, Natcher Building, Conference Rooms E1 & E2, 45 Center Drive, Bethesda, MD 20892 which was published in the Federal Register on December 20, 2010, 75 FR 79386.

The open session of the meeting, held on January 28, 2011, has been changed to begin at 8 a.m.

The meeting is partially closed to the public.

Dated: January 10, 2011.
Jennifer S. Spaeth,
Director, Office of Federal Advisory Committee Policy.

[FR Doc. 2011-1198 Filed 1-20-11; 8:45 am]

BILLING CODE 4140-01-P